DEPARTMENT OF COMMERCE

National Oceanic and Atmospheric Administration

[I.D. 032101D]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene a public meeting of the Red Drum Stock Assessment Panel (RDSAP).

DATES: The Council’s RDSAP will meet on Monday, April 10, 2001 from 9:30 a.m. to 5:00 p.m.

ADDRESSES: The meeting will be held at the New Orleans Airport Hilton, 901 Airline Highway, Kenner, LA 70062; (504)465-1157.

Council address: Gulf of Mexico Fishery Management Council, 3018 U.S. Highway 301 North, Suite 1000, Tampa, FL 33619.

FOR FURTHER INFORMATION CONTACT: Peter B. Hood, Biologist, Gulf of Mexico Fishery Management Council; telephone: (813) 228-2815.

SUPPLEMENTARY INFORMATION: The RDSAP will convene to develop a standardized stock assessment methodology that can accept area (state)-specific data and work with these within the context of a Gulf stock assessment. In addition, the RDSAP will hear about new life history research conducted by Louisiana State University personnel and will consider available data on shrimp-trawl bycatch mortality and historic length composition of the commercial catch that may have not been used in the last stock assessment conducted by NMFS. A copy of the agenda can be obtained by calling the Council office at (813)228-2815.

Although other issues not on the agenda may come before the RDSAP for discussion, in accordance with the Magnuson-Stevens Fishery Conservation and Management Act, those issues may not be the subject of formal action by the RDSAP during this meeting. The RDSAP’s actions will be restricted to those issues specifically identified in the agenda listed as available by this notice.

Special Accommodations

The meeting is open to the public and is physically accessible to people with disabilities. Requests for sign language interpretation or other auxiliary aids should be directed to the Council office (see ADDRESSES) by April 3, 2001.

Dated: March 21, 2001.
Richard W. Surdi,
Acting Director, Office of Sustainable Fisheries, National Marine Fisheries Service.

[FR Doc. 01-7543 Filed 3-26-01; 8:45 am]

BILLING CODE 3510-22-S